DEPARTMENT OF COMMERCE

National Oceanic and Atmospheric Administration

50 CFR Part 648

[I.D. 022502A]

New England Fishery Management Council; Public Meeting

AGENCY: National Marine Fisheries Service (NMFS), National Oceanic and Atmospheric Administration (NOAA), Commerce.

ACTION: Public meeting.

SUMMARY: The New England Fishery Management Council (Council) will hold a 2-day Council meeting on March 19 and 20, 2002, to consider actions affecting New England fisheries in the U.S. exclusive economic zone (EEZ).

DATES: The meeting will be held on Tuesday and Wednesday, March 19 and 20, 2002. The meeting will begin at 9 a.m. on Tuesday and 8:30 a.m. on Wednesday.

ADDRESSES: The meeting will be held at the Mystic Hilton Hotel, 20 Coogan Boulevard, Mystic, CT 06355; telephone (860) 572-0731. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, March 19, 2002

Following introductions, the Council will consider fishing effort capacity reduction proposals for inclusion in draft Amendment 13 to the Northeast Multispecies Fishery Management Plan (FMP). The Council will consider proposals for modifying permit transfer provisions, reducing latent effort (unused groundfish days-at-sea) and the consolidation of fishing effort. Following this report, the Council will provide time on the agenda for public comments on any issues that are relevant to fisheries management and Council business. The Groundfish Committee will discuss progress on the development of Amendment 13. They will also recommend and possibly approve changes to the groundfish status determination criteria for inclusion in Amendment 13.

Wednesday, March 20, 2002

The meeting will reconvene with reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission. A discussion of implementation issues concerning the U.S./ Canada Shared Resources Agreement is then scheduled, followed by a vote on whether to adopt the agreement, the contents of which were presented at the January Council meeting. There will be a discussion of possible future action related to the annual evaluation of whiting management measures. The Council will discuss whether it will complete a Framework Adjustment to implement alternatives to the year 4 default measures for whiting scheduled to become effective on May 1, 2003. During the Monkfish Committee Report the Council will consider approval of goals and objectives for Amendment 2 to the Monkfish FMP for the purpose of providing a basis for the development of management measures. There also will be an update on a timetable for the amendment and progress to develop management alternatives. The Scallop Committee will provide an overview of alternatives under consideration for inclusion into Draft Amendment 10 to the Atlantic Sea Scallop FMP.

Although other non-emergency issues not contained in this agenda may come before this Council for discussion, those issues may not be the subjects of formal action during this meeting. Council action will be restricted to those issues specifically listed in this notice and any issues arising after publication of this notice that require emergency action under section 305(c) of the Magnuson-Stevens Fishery Conservation and Management Act, provided that the public has been notified of the Council's intent to take final action to address the emergency.

The New England Council will consider public comments at a minimum of two Council meetings before making recommendations to the NMFS Regional Administrator on any framework adjustment to a fishery management plan. If the Regional Administrator concurs with the adjustment proposed by the Council, the Regional Administrator may publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: February 26, 2002.
Bruce C. Morehead,
Acting Director, Office of Sustainable Fisheries, National Marine Fisheries Service

[FR Doc. 02-5099 Filed 3-1-02; 8:45 am]

BILLING CODE 3510-22-S